DEPARTMENT OF HOMELAND SECURITY

Coast Guard

33 CFR Part 165

[Docket No. USCG-2015-0488]

Safety Zone; Southern California Annual Fireworks Events for the San Diego Captain of the Port Zone

AGENCY: Coast Guard, DHS.

ACTION: Notice of enforcement of regulation.

SUMMARY: The Coast Guard will enforce a safety zone on the waters of San Diego Bay, California, adjacent to the Embarcadero Marina Park South, for the annual San Diego Symphony Summer Pops Fireworks shows held on specific evenings from June 27, 2015 to September 6, 2015. The brief fireworks displays are scheduled to coincide with the end of the symphony concerts. This action is necessary to provide for safety of the marine event crew, spectators, safety vessels, and general users of the waterway. During the enforcement period, persons and vessels are prohibited from entering into, transiting through, or anchoring within this regulated area unless authorized by the Captain of the Port, or his designated representative.

DATES: The regulations for the safety zone listed in 33 CFR 165.1123, Table 1, Item 1, will be enforced on various dates between June 27, 2015 to September 6, 2015, from 9 p.m. to 10 p.m.

FOR FURTHER INFORMATION CONTACT: If you have questions on this publication, call or email Petty Officer Randolph Pahilanga, Waterways Management, U.S. Coast Guard Sector San Diego, CA; telephone (619) 278-7656, email D11-PF-MarineEventsSanDiego@uscg.mil.

SUPPLEMENTARY INFORMATION: The Coast Guard will enforce a safety zone in San Diego Bay, California, for the annual San Diego Symphony Summer Pops concerts (Item 1 on Table 1 of 33 CFR 165.1123), held on from 9 p.m. to 10 p.m. on various dates. Specifically, the dates of enforcement are: June 27, July 3, July 5, July 17, July 18, July 24, July 25, July 31, August 1, August 7, August 8, August 14, August 15, August 21, August 22, August 28, August 29, and September 4 through September 6, 2015. The safety zone is located off of the Embarcadero Marina Park South.

Under the provisions of 33 CFR 165.1123, persons and vessels are prohibited during the fireworks display times from entering into, transiting through, or anchoring within the 800 foot regulated area safety zone around the fireworks barge, located in approximate position 32°42′16″ N, 117°09′59″ W, unless authorized by the Captain of the Port, or his designated representative. Persons or vessels desiring to enter into or pass through the safety zone may request permission from the Captain of the Port or a designated representative. The Coast Guard Captain of the Port or designated representative can be reached via VHF CH 16 or at (619) 278-7033. If permission is granted, all persons and vessels shall comply with the instructions of the Captain of the Port or his designated representative. Spectator vessels may safely transit outside the regulated area, but may not anchor, block, loiter, or impede the transit of official fireworks support and event safety vessels or law enforcement patrol vessels. The Coast Guard may be assisted by other Federal, State, or local law enforcement agencies in notification and patrol of this regulation.

This document is issued under authority of 5 U.S.C. 552 (a) and 33 CFR 165.1123. In addition to this document in the Federal Register, the Coast Guard will provide the maritime community with advance notification of this enforcement period via the Local Notice to Mariners, Broadcast Notice to Mariners, and local advertising by the event sponsor.

If the Coast Guard determines that the regulated area need not be enforced for the full duration stated on this document, then a Broadcast Notice to Mariners or other communications coordinated with the event sponsor will grant general permission to enter the regulated area.

Dated: June 2, 2015.
J.A. Janszen,
Captain, U.S. Coast Guard, Acting, Captain of the Port San Diego.

[FR Doc. 2015-15317 Filed 6-19-15; 8:45 am]

BILLING CODE 9110-04-P